DEPARTMENT OF COMMERCE

Foreign-Trade Zones Board

[B-75-2013]

Subzone 38E, Authorization of Limited Production Activity, Black & Decker (U.S.) Inc., (Power Tools), Fort Mill, SC

On July 19, 2013, Black & Decker (U.S.) Inc. submitted a notification of proposed production activity to the Foreign-Trade Zones (FTZ) Board for its facility within Subzone 38E, in Fort Mill, South Carolina.

The notification was processed in accordance with the regulations of the FTZ Board (15 CFR part 400), including notice in the Federal Register inviting public comment (78 FR 45911-45912, 7-30-2013). The FTZ Board has determined that further review of part of the proposed activity is warranted at this time. The production activity described in the notification is authorized on a limited basis, subject to the FTZ Act and the Board's regulations, including Section 400.14, and further subject to a restriction requiring that all foreign status inputs classified within HTSUS Chapter 32 used in the production activity be admitted to the subzone in privileged foreign status (19 CFR 146.41). Also, as noted in the request, textile inputs (classified under HTSUS Subheadings 4202.92, 5911.90 and 6307.90) will be admitted to the subzone in privileged foreign status.

Dated: December 2, 2013.
Andrew McGilvray,
Executive Secretary.

[FR Doc. 2013-29351 Filed 12-6-13; 8:45 am]

BILLING CODE 3510-DS-P